DEPARTMENT OF THE INTERIOR

National Park Service

Notice of Realty Action: Boundary Revision at Fredericksburg and Spotsylvania County Battle Fields Memorial National Military Park

I. Pursuant to the Land and Water Conservation Fund Act, as amended (16 U.S.C. 4601-9(c)), the Secretary of the Interior is authorized to make minor revisions of the boundary of an area, whenever he determines that to do so will contribute to, and is necessary for, the proper preservation, protection, interpretation, or management of the unit. A minor boundary revision of Fredericksburg and Spotsylvania County Battle Fields Memorial National Military Park is needed to include the following tracts of land:

Tract 01-135 is a 0.11 of an acre tract that is situated approximately 1200 feet westerly from the centerline of Lansdowne Valley Road aka Route 638. Tract 01-135 occupies a strategic location in interpreting the first battle of Fredericksburg in 1862. It is important for the park to preserve this ground so visitors can clearly understand how General Lee geographically changed a weak part of his defensive line.

Tract 01-157 is a 0.14 of an acre tract that is situated in an area known as Hazel Run approximately 600 feet westerly from US Route 1. Tract 01-157 is located in an area of the Fredericksburg Battle Fields that played a role in the outcome of both the first and second battles of Fredericksburg in 1862 and 1863. Reinforcements to General Lee used a road that went up the backside of an area across Tract 01-157. During the second battle wounded confederate soldiers sought shelter and medical attention at temporary field hospitals set up along an area of this proposed donation.

Tract 03-253 is a 0.49 area tract that is located 1200 feet from the north/east side of Route 3 aka Orange Turnpike, Tract 03-253 is part of the “take-off” area of one of the most significant battle actions of the entire Civil War. This is the area that Stonewall Jackson's now famous “Flank Attack ” has become one of the best known military maneuvers in all American military history.

Tract 03-263 is a 10.89 acre tract currently located outside the boundary. Tract 03-263 is an uneconomic remnant of Tract 03-214. Tract 03-214 and Tract 03-263 must be acquired at the same time. Both tracts are adjacent to the intersection of Jackson Trail East and Brock Road, in the Chancellorsville Battle Fields unit of the park. General Thomas J. “Stonewall” Jackson's Corps marched along these roads. Jackson's Flank Mark and subsequent attack are among the best known events of all American military history. Acquisition of Tract 03-263 would provide additional protection of the Brock Road portion of the march, where no NPS protection currently exists.

Tract 04-199 consists of 0.18 of an acre of land and is located immediately adjacent to Jackson Trail West in the Wilderness Battle Fields unit of the park. Inclusion of this tract will permit the park to screen a new sub-division from visitors following this important road trace, and also eliminate an existing access to the same sub-division.

Detailed information concerning this exchange, and boundary revision, including precise legal descriptions, Land Protection Plans, environmental assessments and cultural reports are available at the following address:

Superintendent, Fredericksburg and Spotsylvania County Battle Fields Memorial Military Park, 120 Chatham Land, Fredericksburg, VA 22405.

Editorial note: This document was received at the Office of the Federal Register on July 21, 2004.

Dated: August 29, 2003.
Patricia Phelan,
Acting Regional Director, Northeast Region.

[FR Doc. 04-16992 Filed 7-28-04; 8:45 am]

BILLING CODE 4312-52-M